DEPARTMENT OF ENERGY

Federal Energy Regulatory Commission

Notice of Commission Half-Day Closing

Due to inclement and worsening weather conditions, the Commission is closing at 1:00 p.m. today. The emergency closing provisions as set forth in section 385.2007 of the Commission's Rules, 18 CFR 385.2007 (2019), which states that filings and documents due to be filed on Tuesday, January 7, 2020, will be accepted as timely on the next official business day.

Dated: January 7, 2020.
Kimberly D. Bose,
Secretary.

[FR Doc. 2020-00344 Filed 1-13-20; 8:45 am]

BILLING CODE 6717-01-P